DEPARTMENT OF ENERGY

Office of Energy Efficiency and Renewable Energy

The SunShot Prize: Solar in Your Community Challenge

AGENCY: Office of Energy Efficiency and Renewable Energy, Department of Energy (DOE).

ACTION: Notice; Release of prize competition rules and process to participate.

SUMMARY: The Department of Energy (DOE) gives notice of the official release of rules for the SunShot Prize: Solar in Your Community Challenge. The Solar in your Community Challenge is a $5 million prize competition to expand solar access to underserved segments, specifically low-and-moderate-income (LMI) communities; non-federal governments (i.e. state, local, and tribal), and non-profit organizations. The Challenge supports the creation, demonstration, and scaling of innovative, replicable, and sustainable business and financial models that can successfully unlock solar access to these underserved segments. A $500,000 Grand Prize will be awarded to the best team that can most successfully demonstrate a model and plan to scale solar to low and moderate income market segments. Other top teams will compete to receive four final prizes totaling $500,000 based on their achievements and potential to scale up. In addition to competing for final prizes, DOE will award selected teams a total of $2 million in seed awards and $2 million in technical assistance throughout an 18-month performance period starting in April 2017 based on successful milestone completion. The rules for the Challenge can be found at www.solarinyourcommunity.org.

DATES: Submission to participate in the Solar in Your Community Challenge started on November 18, 2016 and ends on March 17, 2017. The 18-month performance period starts in April 2017 and ends in October 2018. Final prizes are expected to be announced in January 2019. All dates are subject to change.

ADDRESSES: To apply, parties interested in participating should visit www.solarinyourcommunity.org and fill out an application.

FOR FURTHER INFORMATION CONTACT: Ms. Odette Mucha, U.S. Department of Energy, Mailstop EE-4S, 1000 Independence Ave. SW., Washington, DC 20585-0001. Telephone: (202) 287-1862, Email: solar.community@ee.doe.gov.

SUPPLEMENTARY INFORMATION: The America COMPETES Reauthorization Act of 2010 (America COMPETES), Public Law 111-358, enacted January 4, 2011, authorizes Federal agencies to issue competitions to stimulate innovations in technology, education, and science.

Subject of the Competition

The Solar in Your Community Challenge is a $5 million competition sponsored by the U.S. Department of Energy's (DOE) SunShot Initiative and administered by State University of New York Polytechnic Institute. The goal is to expand solar access to underserved segments, specifically low-and-moderate-income (LMI) communities, non-federal governments (i.e. state, local, and tribal), and non-profit organizations. The Challenge supports the creation, demonstration, and scaling of innovative, replicable, and sustainable business and financial models that can successfully unlock solar access to these underserved segments.

A $500,000 Grand Prize will be awarded to the best team that can most successfully demonstrate a model and plan to scale solar to low and moderate income markets. Top teams will also compete to receive four additional final prizes totaling $500,000 based on their achievements and potential to scale up. In addition to competing for final prizes, DOE will award selected teams a total of $2 million in seed awards and $2 million in technical assistance. Seed awards will be granted incrementally based on milestones during the 18-month performance period.

Two types of teams can participate in the Challenge: Project-focused and program-focused teams. Both types of teams will pursue solar efforts that benefit LMI communities (e.g., residents of public housing), municipal governments (e.g., schools), or non-profits (e.g., foodbanks) that aggregate to 25kW-5MW in size.

Project teams will pursue a portfolio of new solar projects, while program-teams will establish new initiatives that support and enable these types of projects. Any entity can lead the project teams, but the teams should include a wide range of partners (e.g., solar developers, utilities, cities, financial institutions, and community groups). State, local, and/or tribal governments; financial institutions; or utilities should lead the program-focused teams.

The Rules for Being Eligible To Participate in the Competition

The Challenge is open only to: (a) Citizens or permanent residents of the United States; and (b) private or non-federal public entities, such as townships, tribes, corporations, or other organizations that are incorporated in and maintain a primary place of business in the United States. DOE employees, employees of sponsoring organizations, members of their immediate families (spouses, children, siblings, parents), and persons living in the same household as such persons, whether or not related, are not eligible to participate in this competition. Federal entities and federal employees, acting within the scope of their employment, are also not eligible to participate in any portion of this competition.

Applicants Planning To Participate as Part of a Team Must Meet the Following Qualifying Requirements

A team must have a single legal entity representing the entire team. This entity shall be designated the Team Lead. The Team Lead is responsible for complying with all rules of this competition including coordinating with its team members, resolving any conflicts, working with DOE and its prize administrator, participating according to the governing guidelines of the Marketplace, responsibly allocating resources, submitting all required materials throughout the competition, and complying with all guidance and restrictions, including restrictions around intellectual property.

For program-focused teams only, the Team Lead should be an electric utility, an electric co-operative, municipal power company, a financial institution, or a state, local or tribal government entity.

Each team member must be either: (a) Citizens or permanent residents of the United States; or (b) private or non-federal public entities, such as townships, tribes, corporations, or other organizations that are incorporated in and maintain a primary place of business in the United States. A subsidiary of a foreign entity that is incorporated in the United States and that maintains a primary place of business in the United States is also eligible.

To apply, parties interested in participating should visit www.solarinyourcommunity.org and fill out an application.

Technical Assistance

DOE and the Prize Administrator will provide a total of $2 million in technical assistance to selected teams.

Prizes

Select Teams will receive seed prizes based on criteria assessing the team's potential impact (40%), innovation (30%), and the team itself (30%).

Final prizes will be determined through evaluation of teams' progress over the 18-month period of performance, their overall ability to create replicable, scalable, economically-sustainable business and financial models, and the innovativeness of their approach. The decisions of the judges are final and may not be challenged by participating teams.

Issued in Washington, DC on November 17, 2016.
Roland Risser,
Deputy Assistant Secretary Renewable Power, Office of Energy Efficiency and Renewable Energy, U.S. Department of Energy.

[FR Doc. 2016-28235 Filed 11-22-16; 8:45 am]

BILLING CODE 6450-01-P